DEPARTMENT OF COMMERCE

International Trade Administration

[A-570-996, A-428-843, A-588-872, A-580-872, A-401-809, A-583-851]

Non-Oriented Electrical Steel From the People's Republic of China, Germany, Japan, the Republic of Korea, Sweden and Taiwan: Postponement of Preliminary Determinations of Antidumping Duty Investigations

AGENCY: Enforcement and Compliance, formerly Import Administration, International Trade Administration, Department of Commerce.

DATES: March 12, 2014.

FOR FURTHER INFORMATION CONTACT: Yang Jin Chun at (202) 482-5760 (the People's Republic of China (PRC)); Patrick O'Connor at (202) 482-0989 (Germany); Thomas Martin at (202) 482-3936 (Japan); Dmitry Vladimirov at (202) 482-0665 (the Republic of Korea (Korea)); Drew Jackson at (202) 482-4406 (Sweden); and Karine Gziryan at (202) 482-4081(Taiwan), AD/CVD Operations, Enforcement and Compliance, International Trade Administration, U.S. Department of Commerce, 14th Street and Constitution Avenue NW., Washington, DC 20230.

SUPPLEMENTARY INFORMATION:

Postponement of Preliminary Determinations

On November 18, 2013, the Department of Commerce (the “Department”) published a notice of initiation of antidumping duty investigations of non-oriented electrical steel from the PRC, Germany, Japan, Korea, Sweden and Taiwan.¹ The notice of initiation stated that the Department, in accordance with section 733(b)(1)(A) of the Tariff Act of 1930, as amended (the “Act”), and 19 CFR 351.205(b)(1), would issue its preliminary determinations for these investigations, unless postponed, no later than 140 days after the date of the initiation. The preliminary determinations of these antidumping duty investigations are currently due no later than March 26, 2014.

¹ See Non-Oriented Electrical Steel From the People's Republic of China, Germany, Japan, the Republic of Korea, Sweden and Taiwan: Initiation of Antidumping Duty Investigations, 78 FR 69041 (November 18, 2013).

On February 28, 2014, AK Steel Corporation (“Petitioner”), pursuant to section 733(c)(1)(B) of the Act and 19 CFR 351.205(b)(2) and (e), made a timely request for postponement of the preliminary determinations in these investigations.² Petitioner requested a 50-day postponement of the preliminary determinations in order to provide the Department with sufficient time to review the questionnaire responses and issue appropriate requests for clarification and additional information.

² See Letter from Petitioner to the Secretary of Commerce, “Non-Oriented Electrical Steel from the People's Republic of China, Germany, Japan, the Republic of Korea, Sweden and Taiwan: Request for Postponement of the Preliminary Determinations” (February 28, 2014).

For the reasons stated above and because there are no compelling reasons to deny the request, the Department, in accordance with section 733(c)(1)(A) of the Act, is postponing the deadline for the preliminary determinations to no later than 190 days after the date on which the Department initiated these investigations. Therefore, the new deadline for issuing these preliminary determinations is May 15, 2014. In accordance with section 735(a)(1) of the Act, the deadline for the final determinations of these investigations will continue to be 75 days after the date of the preliminary determinations, unless postponed at a later date.

This notice is issued and published pursuant to section 733(c)(2) of the Act and 19 CFR 351.205(f)(1).

Dated: March 5, 2014.
Paul Piquado,
Assistant Secretary for Enforcement and Compliance.

[FR Doc. 2014-05427 Filed 3-11-14; 8:45 am]

BILLING CODE 3510-DS-P